FEDERAL ELECTION COMMISSION

Notice of Agency Relocation

The Federal Election Commission will be moving to a new location in early 2018. Specific information, including move dates and delivery instructions during the transition period, will be forthcoming.

Contact Person for More Information: Judith Ingram, Press Officer, Telephone: (202) 694-1220.

Dayna C. Brown,
Secretary and Clerk of the Commission.

[FR Doc. 2017-25950 Filed 12-1-17; 8:45 am]

BILLING CODE 6715-01-P